DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later that October 23, 2000.

Interested persons are invited to submit written comments regarding the subject matter of the investigations to the Director, Division of Trade Adjustment Assistance, at the address shown below, not later than October 23, 2000.

The petitions filed in this case are available for inspection at the Office of the Director, Division of Trade Adjustment Assistance, Employment and Training Administration, U.S. Department of Labor, Room C-5311, 200 Constitution Avenue, N.W., Washington, D.C. 20210.

Signed at Washington, D.C. this 18th day of September, 2000.
Edward A. Tomchick,
Director, Division of Trade Adjustment Assistance.

Appendix
[Petitions instituted on 09/18/2000]
TA-W | Subject firm (petitioners) | Location | Date of petition | Product(s)
38,085 | Evy of California (Wrks) | Los Angeles, CA | 09/06/2000 | Children's Clothing.
38,086 | Hennessee Apparel, Inc (Comp) | Decatur, TN | 08/10/2000 | Fleecewear.
38,087 | Imaging Technologies, Inc (Comp) | Cookeville, TN | 08/21/2000 | Ink Jet Systems.
38,088 | Heinz Pet Products (Wrks) | El Paso, TX | 08/30/2000 | Beef Jerky Treat.
38,089 | Federal Bag Co., Inc. (Comp) | St. Louis, MO | 09/05/2000 | Backpacks, Fannypacks.
38,090 | Waynesboro Apparel, Inc (Wrks) | Waynesboro, TN | 08/31/2000 | Tee Shirts.
38,091 | American Metal Products (Wrks) | Union, MO | 08/31/2000 | Decorative Floor Resisters.
38,092 | Xerox ColorgrafX Systems (UNITE) | San Jose, CA | 09/01/2000 | Ink Jet Printers.
38,093 | Robinson Manufacturing Co (Wrks) | Oxford, ME | 09/08/2000 | Wool and Wool Blend Cloth.
38,094 | Ajay Leisure Products (Wrks) | Delevan, WI | 08/19/2000 | Golf Bags.
38,094 | Ungo Security (Wkrs) | Hayward, CA | 08/18/2000 | Security Alarms.
38,096 | Ultima Trim (Wrks) | Los Indios, TX | 09/01/2000 | Steering Wheels.
38,097 | Toastmaster, Inc. (Comp) | Macon, MO | 09/05/2000 | Portable Kitchen Appliances.
38,098 | Burlington Resources (Wrks) | Sidney, MT | 08/25/2000 | Oil and Gas.
38,099 | Delco Remy America (UAW) | Anderson, IN | 09/06/2000 | Heavy Duty Armatures.
38,100 | Farah/Savane Int'l (Wrks) | El Paso, TX | 08/22/2000 | Slacks, Shirts.
38,101 | Bonney Forge Corp. (Wrks) | Allentown, PA | 08/29/2000 | Steel Fittings.
38,102 | McDowell Manufacturing (Comp) | DuBois, PA | 09/11/2000 | Metal Stampings.
38,103 | Lebanite Corp (Wrks) | Lebanon, OR | 08/31/2000 | High Density Hard Board.
38,104 | Garan Manufacturing Corp (Wrks) | Jemison, AL | 08/30/2000 | Children's Clothing.
38,105 | Briggs Industries, Inc. (Wrks) | Abingdon, IL | 09/07/2000 | China Toilets, Tanks Wash Basins.
38,106 | Abbeville Shirtmakers (Comp) | Abbeville, SC | 09/07/2000 | Men's Dress Shirts.
38,107 | Timex Corp (IAMAW) | Little Rock, AR | 09/05/2000 | Watch Case Backs, Bezels.
38,108 | AirBoss Polymer Products (Comp) | South Haven, MI | 09/07/2000 | Molded Rubber Products.
38,109 | C and P Trucking Co., Inc (Comp) | Attalla, AL | 09/07/2000 | Trucking Transportation.
38,110 | Authentic Fitness (Wrks) | Bell, CA | 09/06/2000 | Bathing Suits and Sportwear.
38,111 | Standard Forged Products (USWA) | Johnstown, PA | 09/05/2000 | Railroad Traing Car Axles and Mounts.
38,112 | Mead Products (Wrks) | Kalamazoo, MI | 08/31/2000 | Rules Paper Tablets.
38,113 | Eramet Marietta, Inc. (Comp) | Marietta, OH | 09/11/2000 | Manganese Metal.
38,114 | American Identity (Comp) | Fairbury, NE | 09/12/2000 | Shirts.

[FR Doc. 00-26161 Filed 10-11-00; 8:45 am]

BILLING CODE 4510-30-M